FEDERAL COMMUNICATIONS COMMISSION

47 CFR Part 4

[PS Docket No. 15-80; Report No. 3179; FRS 39529]

Petition for Reconsideration of Action in Rulemaking Proceeding

AGENCY: Federal Communications Commission.

ACTION: Petition for Reconsideration.

SUMMARY: A Petition for Reconsideration (Petition) has been filed in the Commission's rulemaking proceeding by Ian P. Culver, on behalf of California Public Utilities Commission.

DATES: Oppositions to the Petition must be filed on or before August 13, 2021. Replies to an opposition must be filed on or before August 23, 2021.

ADDRESSES: Federal Communications Commission, 45 L Street NE, Washington, DC 20554.

FOR FURTHER INFORMATION CONTACT: Saswat Misra, Attorney-Advisor, Cybersecurity & Communications Reliability Division, Public Safety and Homeland Security Bureau, (202) 418-0944 or via email at Saswat.Misra@fcc.gov.

SUPPLEMENTARY INFORMATION: This is a summary of the Commission's document, Report No. 3179, released July 19, 2021. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: In the Matter of Amendments to Part 4 of the Commission's Rules Concerning Disruptions to Communications, published at 86 FR 22796, April 29, 2021, in PS Docket No. 15-80. This document is being published pursuant to 47 CFR 1.429(e). See also 47 CFR 1.4(b)(1) and 1.429(f), (g).

Number of Petitions Filed: 1.

Federal Communications Commission.
Marlene Dortch,
Secretary, Office of the Secretary.

[FR Doc. 2021-16126 Filed 7-28-21; 8:45 am]

BILLING CODE 6712-01-P